DEPARTMENT OF COMMERCE

International Trade Administration

[A-588-046]

Notice of Rescission of Antidumping Duty Changed Circumstances Review: Polychloroprene Rubber from Japan

AGENCY: Import Administration, International Trade Administration, Department of Commerce.

ACTION: Notice of Rescission of Antidumping Duty Changed Circumstances Review.

SUMMARY: On July 31, 2003, the Department of Commerce (the Department) published a notice of initiation of changed circumstances review of the antidumping duty finding on polychloroprene rubber (PR) from Japan to determine whether Showa Denko Elastomers, K.K. (SDEL) and Showa Denko K.K. (SDK) are the successor-in-interest companies to Showa DDE Manufacturing K.K. (SDEM) and DDE Japan Kabushiki Kaisha (DDE Japan). See Notice of Initiation of Antidumping Duty Changed Circumstances Review: Polychloroprene Rubber from Japan, 68 FR 44924 (July 31, 2003) (Notice of Initiation). On October 24, 2003, we published a notice of preliminary results, determining that the restructured manufacturing and marketing joint venture, SDEL and SDK, are the successor-in-interest companies to SDEM and DDE Japan, for purposes of determining antidumping liability in this proceeding. See Notice of Preliminary Results of Antidumping Duty Changed Circumstances Review: Polychloroprene Rubber from Japan, 68 FR 60913 (October 24, 2003) (Notice of Preliminary Results). Interested parties were invited to comment on these preliminary results. On December 5, 2003, SDEL and SDK withdrew their request for a changed circumstances review. The Department is now rescinding this changed circumstances antidumping duty administrative review.

EFFECTIVE DATE: December 24, 2003.

FOR FURTHER INFORMATION CONTACT: Zev Primor or Mark Manning, AD/CVD Enforcement, Group II, Office 4, Import Administration, International Trade Administration, U.S. Department of Commerce, 14th Street and Constitution Avenue, NW., Washington, DC 20230; telephone (202) 482-4114 or (202) 482-5253, respectively.

SUPPLEMENTARY INFORMATION:

Background

On December 6, 1973, the Treasury Department published in the Federal Register (38 FR 33593) the antidumping duty finding on PR from Japan. On June 17, 2003, SDEL and SDK submitted a letter stating that they are the successor-in-interest to SDEM and DDE Japan, and, as such, entitled to receive the same antidumping treatment as accorded these companies. On July 18, 2003, at the request of the Department, SDEL and SDK submitted additional information and documentation pertaining to their changed circumstances request. On July 31, 2003, the Department published a notice of initiation of changed circumstances review of the antidumping duty finding on PR from Japan to determine whether SDEL and SDK are the successor-in-interest companies to SDEM and DDE Japan. See Notice of Initiation. On October 24, 2003, we published a notice of preliminary results, determining that the restructured manufacturing and marketing joint venture, SDEL and SDK, are the successor-in-interest companies to SDEM and DDE Japan, for purposes of determining antidumping liability in this proceeding. See Notice of Preliminary Results, 68 FR at 60913. In the same notice, the Department invited interested parties to comment on the preliminary results. Prior to receiving any comments, on December 5, 2003, SDEL and SDK petitioned the Department to withdraw their request for a changed circumstances review.

Scope of Review

Imports covered by this review are shipments of PR, an oil resistant synthetic rubber also known as polymerized chlorobutadiene or neoprene, currently classifiable under items 4002.41.00, 4002.49.00, 4003.00.00 of the Harmonized Tariff Schedule of the United States (HTSUS). HTSUS item numbers are provided for convenience and customs purposes. The written description remains dispositive.

Rescission of Changed Circumstances Review

On December 5, 2003, SDEL and SDK petitioned the Department to withdraw their request for a changed circumstances review. No interested parties, including the petitioner, objected to this withdrawal request. Consequently, the Department is now rescinding this antidumping duty changed circumstances review. The U.S. Customs and Border Protection will continue to suspend entries of subject merchandise at the appropriate cash deposit rate for all entries of PR from Japan.

This notice also serves as a reminder to parties subject to administrative protective order (APO) of their responsibility concerning the disposition of proprietary information disclosed under the APO in accordance with 19 CFR 351.305(a)(3). Timely written notification of the return or destruction of APO materials or conversion to judicial protective order is hereby requested. Failure to comply with regulations and the terms of an APO is a sanctionable violation.

This notice is in accordance with sections 751(b) and 777(i)(1) of the Tariff Act of 1930, as amended.

Dated: December 17, 2003.
Holly A. Kuga,
Acting Deputy Assistant Secretary for Import Administration.

[FR Doc. 03-31777 Filed 12-23-03; 8:45 am]

BILLING CODE 3510-DS-S